SURFACE TRANSPORTATION BOARD

[Docket No. FD 36181]

Kasgro Rail Corp.—Lease and Operation Exemption—KJ Rail Logistics LLC

AGENCY: Surface Transportation Board.

ACTION: Correction to notice of exemption.

On March 29, 2018, Kasgro Rail Corp. (Kasgro) filed a verified notice of exemption under 49 CFR 1150.41 to lease from KJ Rail Logistics LLC, a noncarrier, and operate approximately 1.6 miles of rail line located in LaPorte County, Ind., between milepost 0.0 and milepost 1.6 (the Line). On April 13, 2018, notice of the exemption was served and published in the Federal Register (83 FR 16,168).

On April 16, 2018, Kasgro filed an errata stating that the Line does not connect with CSX Transportation, Inc. at milepost 0.0 as Kasgro indicated in its verified notice but rather with Chicago South Shore & South Bend Railroad (CSS) at milepost 0.0. Accordingly, this notice identifies the connecting carrier as CSS. All other information in the April 13, 2018 notice is correct.

Board decisions and notices are available on our website at “WWW.STB.GOV.”

Decided: April 24, 2018.
By the Board, Scott M. Zimmerman, Acting Director, Office of Proceedings.
Raina Contee,
Clearance Clerk.

[FR Doc. 2018-08945 Filed 4-26-18; 8:45 am]

BILLING CODE 4915-01-P